Title 3—

The President

Presidential Determination No. 2000-13 of February 16, 2000

Determination on Eligibility of the Economic Community of West African States (ECOWAS) To Be Furnished Defense ­Articles and Services Under the Foreign Assistance Act and the Arms Export Control Act

Memorandum for the Secretary of State

Pursuant to the authority vested in me by section 503(a) of the Foreign Assistance Act of 1961, as amended, and section 3(a)(1) of the Arms Export Control Act, I hereby find that the furnishing of defense articles and services to the Economic Community of West African States will strengthen the security of the United States and promote world peace.

You are directed to report this determination to the Congress and to publish it in the Federal Register.

wj

THE WHITE HOUSE,

Washington, February 16, 2000.

[FR Doc. 00-4816

Filed 2-25-00; 8:45 am]

Billing code 4710-10-M